DEPARTMENT OF THE INTERIOR

Bureau of Land Management

[PO #4820000251]

Call for Nominations for Bureau of Land Management Northern New Mexico Resource Advisory Council

AGENCY: Bureau of Land Management, Interior.

ACTION: Notice of call for nominations.

SUMMARY: The purpose of this notice is to request public nominations for the Bureau of Land Management's (BLM) Northern New Mexico Resource Advisory Council (RAC) for terms scheduled to expire. This RAC provides advice and recommendations to the BLM on land use planning and management of the National System of Public Lands within its geographic areas.

DATES: All nominations must be received no later than February 18, 2025.

ADDRESSES: Nominations and completed applications should be sent to the individual listed in the FOR FURTHER INFORMATION CONTACT section of this notice.

FOR FURTHER INFORMATION CONTACT: Jamie Garcia, BLM Rio Puerco Field Office, 100 Sun Avenue NE, Suite 330, Albuquerque, NM 87109; email: jagarcia@blm.gov; phone: (505) 761-8787. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Federal Land Policy and Management Act (FLPMA) directs the Secretary of the Interior to involve the public in planning and issues related to management of lands administered by the BLM through the establishment of 10- to 15-member citizen-based advisory councils that are managed in accordance with the Federal Advisory Committee Act (FACA). As required by FACA, RAC membership must be balanced and representative of the various interests concerned with the management of the public lands. The rules governing RACs are found at 43 CFR part 1780 subpart 1784. The RACs include the following three membership categories:

Category One—Holders of Federal grazing permits or leases within the area for which the RAC is organized; represent interests associated with transportation or rights-of-way; represent developed outdoor recreation, off-highway vehicle users, or commercial recreation activities; represent the commercial timber industry; or represent energy and mineral development.

Category Two—Representatives of nationally or regionally recognized environmental organizations; dispersed recreational activities; archaeological and historical interests; or nationally or regionally recognized wild horse and burro interest groups.

Category Three—Hold state, county, or local elected office; are employed by a state agency responsible for the management of natural resources, land, or water; represent Indian tribes within or adjacent to the area for which the RAC is organized; are employed as academicians in natural resource management or the natural sciences; or represent the affected public at large.

Individuals may nominate themselves or others. Nominations received during the National Call for Nominations are being considered and individuals do not need to reapply. Nominees must be residents of the State of New Mexico. The BLM will evaluate nominees based on their education, training, experience, and knowledge of the geographic area of the RAC. Nominees should demonstrate a commitment to collaborative resource decision-making.

The following must accompany all nominations:

—A completed RAC application, which can either be obtained through your local BLM office or online at: https://www.blm.gov/sites/default/files/docs/2022-05/BLM-Form-1120-19_RAC-Application.pdf

—Letters of reference from represented interests or organizations; and

—Any other information that addresses the nominee's qualifications.

Simultaneous with this notice, the BLM will issue an online announcement providing additional information for submitting nominations.

(Authority: 43 CFR 1784.4-1)

Sabrina Flores,
Albuquerque District Manager.

[FR Doc. 2025-00950 Filed 1-15-25; 8:45 am]

BILLING CODE 4331-23-P